DEPARTMENT OF LABOR

Employment and Training Administration

[TA-W-70,151]

Smith and Nephew, Inc., Wound Management-Largo Division, Including On-Site Leased Workers From Olsten Staffing, Aerotek, Staffworks, and Adecco, Largo, FL; Amended Certification Regarding Eligibility To Apply for Worker Adjustment Assistance

In accordance with Section 223 of the Trade Act of 1974, as amended (“Act”), 19 U.S.C. 2273, the Department of Labor issued a Certification of Eligibility to Apply for Worker Adjustment Assistance on November 5, 2009, applicable to workers of Smith and Nephew, Inc., Wound Management-Largo Division, Largo, Florida, including on-site leased workers of Olsten Staffing, Aerotek, and Staffworks, Largo, Florida. The notice was published in the Federal Register January 25, 2010 (75 FR 3943).

At the request of the State Agency, the Department reviewed the certification for workers of the subject firm. The workers are engaged in activities related to the production of advanced wound care products such as adhesive dressings, non-adhesive dressings, skin prep, skin cleaning prep, and medical devices.

The company reports that workers leased from Adecco were employed on-site at the Largo, Florida location of Smith and Nephew, Inc., Wound Management-Largo Division. The Department has determined that these workers were sufficiently under the control of the subject firm to be considered leased workers.

Based on these findings, the Department is amending this certification to include workers leased from Adecco working on-site at the Largo, Florida location of Smith and Nephew, Inc., Wound Management-Largo Division.

The amended notice applicable to TA-W-70,151 is hereby issued as follows:

All workers of Smith and Nephew, Inc., Wound Management-Largo Division, including on-site leased workers of Olsten Staffing, Aerotek, Staffworks, and Adecco, Largo, Florida, who became totally or partially separated from employment on or after May 4, 2008, through November 5, 2011, and all workers in the group threatened with total or partial separation from employment on date of certification through two years from the date of certification, are eligible to apply for adjustment assistance under Chapter 2 of Title II of the Trade Act of 1974, as amended.

Signed in Washington, DC, this 26th day of February 2010.
Del Min Amy Chen,
Certifying Officer, Division of Trade Adjustment Assistance.

[FR Doc. 2010-5306 Filed 3-11-10; 8:45 am]

BILLING CODE 4510-FN-P